DEPARTMENT OF HOMELAND SECURITY

Federal Emergency Management Agency

Agency Information Collection Activities: Proposed Collection; Comment Request

AGENCY: Federal Emergency Management Agency, DHS.

ACTION: Notice; 60-day notice and request for comments; this is an extension of a currently approved collection, OMB No. 1660-0103.

SUMMARY: The Federal Emergency Management Agency (FEMA), as part of its continuing effort to reduce paperwork and respondent burden, invites the general public and other Federal agencies to take this opportunity to comment on this information collection. In accordance with the Paperwork Reduction Act of 1995, this notice seeks comments concerning the Property Acquisition and Relocation for Open Space process as part of the administration of FEMA's mitigation grant programs.

SUPPLEMENTARY INFORMATION: Rules implementing Property Acquisition and Relocation for Open Space as published at 44 CFR part 80 on October 31, 2007 in the Federal Register as an interim rule govern property acquisitions for the creation of open space under all of FEMA mitigation grant programs authorized under both the Robert T. Stafford Disaster Relief and Emergency Assistance Act, as amended, 42 U.S.C. 5121-5206, and the National Flood Insurance Act of 1968, as amended, 42 U.S.C. 4001 et seq. Acquisition and relocation of property for open space use is one of the most common mitigation activities, and is an eligible activity type authorized for Federal grant funds under all of FEMA mitigation grant programs. FEMA mitigation grant programs require all properties acquired with FEMA funds to be deed restricted and maintained as open space in perpetuity. This ensures that no future risks from hazards occur to life or structures on that property, and no future disaster assistance or insurance payments are made as a result of damages to that property. This extension of a currently approved collection of information is necessary to establish uniform requirements for State and local implementation of acquisition activities, and to enforce open space maintenance and monitoring requirements for properties acquired with FEMA mitigation grant funds. The interim rule published on October 31, 2007 included a conforming amendment to the Hazard Mitigation Grant Program to refer to the new part 80 for acquisition and relocation activities, and removed 44 CFR 206.434(f), pertaining to the inapplicability of the Uniform Relocation Act.

Collection of Information

Title: Property Acquisition and Relocation for Open Space.

Type of Information Collection: Extension of a currently approved collection.

OMB Number: 1660-0103.

Form Numbers: None.

Abstract: FEMA and State and local recipients of FEMA mitigation grant programs will use the information collected to meet the Property Acquisition requirements to implement acquisition activities under the terms of grant agreements for acquisition and relocation activities. FEMA and State/local grant recipients will also use the information to monitor and enforce the open space requirements for all properties acquired with FEMA mitigation grants.

Affected Public: State, local, or Indian tribal government and individuals or households.

Estimated Total Annual Burden Hours: 11,424.

Annual Burden Hours
Project/activity | Number of respondents | Frequency of responses | Number of Responses | Hours per burden response | Total annual burden hours
| (A) | (B) | (C) | (A × B) | (A × B × C)
Voluntary Participation Statement | 56 | 40 | 1 | 2,240 | 2,240
Deed Restriction Requirements | 56 | 40 | 4 | 2,240 | 8,960
Monitoring and Reporting Requirements | 56 | 1 | 4 | 56 | 224
Transfer Certification |  |  |  |  |
Enforcement Notices |  |  |  |  |
Total | 56 |  | 9 | 4,536 | 11,424

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before April 29, 2008.

ADDRESSES: Interested persons should submit written comments to Director, Records Management and Privacy, Office of Management Directorate, Federal Emergency Management Agency, 500 C Street, SW., Room 609, Washington, DC 20472.

FOR FURTHER INFORMATION CONTACT: Contact Cecelia Rosenberg, Branch Chief, Mitigation Directorate, (202) 646-3321 for additional information. You may contact the Records Management Branch for copies of the proposed collection of information at facsimile number (202) 646-3347 or e-mail address: FEMA-Information-Collections@dhs.gov.

Dated: February 12, 2008.
John A. Sharetts-Sullivan,
Director, Records Management and Privacy, Office of Management Directorate, Federal Emergency Management Agency, Department of Homeland Security.

[FR Doc. E8-3906 Filed 2-28-08; 8:45 am]

BILLING CODE 9110-11-P